FEDERAL ELECTION COMMISSION

Sunshine Act Meeting

AGENCY: Federal Election Commission.

DATE and TIME: Tuesday, June 6, 2017 at 10:00 a.m. and its continuation at the conclusion of the open meeting on June 8, 2017 and its continuation on June 21, 2017 at 10:00 a.m.

PLACE: 999 E Street NW., Washington, DC.

STATUS: This meeting was closed to the public.

FEDERAL REGISTER NOTICE OF PREVIOUS ANNOUNCEMENT: 82 FR 26928.

ITEMS ALSO DISCUSSED: This meeting was continued on Thursday, June 21, 2017.

* * * * *

PERSON TO CONTACT FOR INFORMATION: Judith Ingram, Press Officer, Telephone: (202) 694-1220.

Laura E. Sinram,
Acting Deputy Secretary of the Commission.

[FR Doc. 2017-13323 Filed 6-21-17; 4:15 pm]

BILLING CODE 6715-01-P